DEPARTMENT OF ENERGY

Federal Energy Regulatory Commission

[Project No. 2197]

Notice of Intent To File an Application for a New License

April 1, 2003.

a. Type of Filing: Notice of Intent to File An Application for a New License.

b. Project No.: 2197.

c. Date Filed: March 27, 2003.

d. Submitted By: Alcoa Power Generating Inc., Yadkin Division—current licensee.

e. Name of Project: Yadkin Falls Hydroelectric Project.

f. Location: On the Yadkin River in Montgomery, Stanly, Davidson, Rowan, and Davie Counties, North Carolina. The project does not occupy federal lands.

g. Filed Pursuant to: Section 15 of the Federal Power Act.

h. Licensee Contact: Pat Shaver, Yadkin Public Reference Room, Penta Buildling, 48 Falls Road, Badin, NC 28009, pat.shaver@alcoa.com, (704) 422-5678.

i. FERC Contact: Ron McKitrick, ronald.mckitrick@ferc.gov, (770) 452-3778.

j. Effective date of current license: May 1, 1958.

k. Expiration date of current license: April 30, 2008.

l. Description of the Project: The project consists of the following four developments:

The High Rock Development consists of the following existing facilities: (1) A 936-foot-long dam; (2) a 15,180-acre reservoir; (3) a powerhouse integral to the dam containing three generating units with a total installed capacity of 39.6 MW; and (4) other appurtenances.

The Tuckertown Development consists of the following existing facilities: (1) A 1,370-foot-long dam; (2) a 2,560-acre reservoir; (3) a powerhouse integral to the dam containing three generating units with a total installed capacity of 38.0 MW; and (4) other appurtenances.

The Narrows Development consists of the following existing facilities: (1) A 1,144-foot-long dam with a bypass spillway and channel; (2) a 5,355-acre reservoir; (3) a powerhouse containing four generating units with a total installed capacity of 108.8 MW; and (4) other appurtenances.

The Falls Development consists of the following existing facilities: (1) A 750-foot-long dam; (2) a 204-acre reservoir; (3) a powerhouse integral to the dam containing three generating units with a total installed capacity of 29.9 MW; and (4) other appurtenances.

m. Each application for a new license and any competing license applications must be filed with the Commission at least 24 months prior to the expiration of the existing license. All applications for license for this project must be filed by April 30, 2006.

n. A copy of this filing is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or TTY (202) 502-8659. A copy is also available for inspection and reproduction at the address in item h above.

Magalie R. Salas,
Secretary.

[FR Doc. 03-8458 Filed 4-7-03; 8:45 am]

BILLING CODE 6717-01-P